DEPARTMENT OF HOMELAND SECURITY

Coast Guard

33 CFR Part 127

[Docket Number USCG-2020-0102]

Waterway Suitability Assessment for Operations of Liquefied Hazardous Gas Terminal; Beaumont, TX

AGENCY: Coast Guard, DHS.

ACTION: Notice of inquiry; request for comments.

SUMMARY: We are requesting your comments on a Letter of Intent and Preliminary Waterway Suitability Assessment (WSA) we received from Martin Midstream Partners proposing to modify its existing Neches Terminal in Beaumont, Texas to handle additional liquefied hazardous gas (LHG). The terminal currently handles Ammonia which is classified as a LHG and the projects currently being evaluated would modify existing operations at the terminal by adding additional LHG products and increasing the number of LHG vessels from 24 ships per year to up to 350 LHG barge and ship visits per year. The additional LHG products include butane, propane, ethane, ethylene and propylene. The Coast Guard is notifying the public of this proposed increase in LHG marine traffic on the Sabine-Neches Waterway and is soliciting comments relevant to the Coast Guard's preparation of a Letter of Recommendation (LOR) for issuance to the federal, state, or local agency with jurisdiction over the proposed facility.

DATES: Your comments and related material must reach the Coast Guard on or before April 2, 2020.

ADDRESSES: You may submit comments identified by docket number USCG-2020-0102 using the Federal portal at https://www.regulations.gov. See the “Public Participation and Request for Comments” portion of the SUPPLEMENTARY INFORMATION section for further instructions on submitting comments.

FOR FURTHER INFORMATION CONTACT: If you have questions about this notice of inquiry, call or email Mr. Scott K. Whalen, Vessel Traffic Service Director, Marine Safety Unit Port Arthur, U.S. Coast Guard; telephone 409-719-5086, email Scott.K.Whalen@uscg.mil.

SUPPLEMENTARY INFORMATION:

I. Table of Abbreviations

CFR Code of Federal Regulations

COTP Captain of the Port Marine Safety Unit Port Arthur

DHS Department of Homeland Security

LNG Liquefied natural gas

LOI Letter of Intent

LOR Letter of Recommendation

NVIC Navigation and Vessel Inspection Circular

U.S.C. United States Code

WSA Waterway Suitability Assessment

II. Background and Purpose

Under 33 CFR 127.007(a), an owner or operator planning to build a new facility handling LHG, or an owner or operator planning new construction to expand or modify marine terminal operations in an existing facility handling LHG, where the construction, expansion, or modification would result in an increase in the size and/or frequency of LHG marine traffic on the waterway associated with the proposed facility or modification to an existing facility, must submit a Letter of Intent (LOI) to the Captain of the Port of the zone in which the facility is or will be located. Under 33 CFR 127.007(e), an owner or operator planning such new construction or expansion of an existing facility must also file or update a WSA that addresses the proposed increase in LHG marine traffic in the associated waterway.

Under 33 CFR 127.009, after receiving an LOI, the Captain of the Port issues a LOR as to the suitability of the waterway for LHG marine traffic to the appropriate jurisdictional authorities. The LOR is based on a series of factors listed in 33 CFR 127.009 that relate to the physical nature of the affected waterway and issues of safety and security associated with LHG marine traffic on the affected waterway.

III. Information Requested

On September 16, 2019, Martin Midstream Partners submitted an LOI and Preliminary WSA. The company's proposed plans include the addition of LHGs to its operations at the facility and an increase in the estimated annual LHG barge and ship visits to the facility. The purpose of this notice is to solicit public comments on the proposed increase in LHG marine traffic on the Sabine-Neches Waterway. The Coast Guard believes that public input may be useful to the Captain of the Port Marine Safety Unit Port Arthur with respect to validating the information provided in Martin Midstream Partner's LOI and WSA and the development of the Coast Guard's LOR. A brief summary of Martin Midstream Partner's proposal is available in the docket where indicated under ADDRESSES.

On January 24, 2011, the Coast Guard published Navigation and Vessel Inspection Circular (NVIC) 01-2011, titled “Guidance Related to Waterfront Liquefied Natural Gas (LNG) Facilities.” NVIC 01-2011 provides guidance for owners and operators seeking approval to build and operate LNG facilities. The Coast Guard will refer to NVIC 01-2011 for process information and guidance in evaluating Martin Midstream Partner's Preliminary WSA. NVIC 01-2011 is available in the docket where indicated under ADDRESSES and also on the Coast Guard's website at https://www.dco.uscg.mil/Portals/9/DCO%20Documents/5p/5ps/NVIC/2011/NVIC%2001-2011%20Final.pdf.

IV. Public Participation and Request for Comments

We encourage you to submit comments through the Federal portal at https://www.regulations.gov. If your material cannot be submitted using https://www.regulations.gov, contact the person in the FOR FURTHER INFORMATION CONTACT section of this document for alternate instructions. In your submission, please include the docket number for this notice of inquiry and provide a reason for each suggestion or recommendation.

We accept anonymous comments. All comments received will be posted without change to https://www.regulations.gov and will include any personal information you have provided. For more about privacy and the docket, visit https://www.regulations.gov/privacyNotice.

Documents mentioned in this notice of inquiry as being available in the docket, and all public comments, will be in our online docket at https://www.regulations.gov and can be viewed by following that website's instructions.

This document is issued under authority of 5 U.S.C. 552(a).

Dated: February 26, 2020.
Jacqueline Twomey,
Captain, U.S. Coast Guard, Captain of the Port Marine Safety Unit Port Arthur.

[FR Doc. 2020-04310 Filed 3-2-20; 8:45 am]

BILLING CODE 9110-04-P